DEPARTMENT OF COMMERCE

National Oceanic and Atmospheric Administration

RIN 0648-XD710

Magnuson-Stevens Act Provisions; Fisheries of the Northeastern United States; Northeast Multispecies Fishery; Approved Monitoring Service Providers

AGENCY: National Marine Fisheries Service (NMFS), National Oceanic and Atmospheric Administration (NOAA), Commerce.

ACTION: Notice, approved monitoring service providers.

SUMMARY: NMFS has approved five companies to provide at-sea monitoring services to Northeast multispecies vessels in fishing year 2015. Regulations implementing Amendment 16 to the Northeast Multispecies Fishery Management Plan require third-party at-sea monitoring service providers to apply to, and be approved by, NMFS in a manner consistent with the Administrative Procedure Act in order to be eligible to provide at-sea monitoring services to sectors.

ADDRESSES: Copies of the list of NMFS-approved sector monitoring service providers are available at http://www.greateratlantic.fisheries.noaa.gov/sustainable/species/multispecies/ or by sending a written request to: 55 Great Republic Drive, Gloucester, MA 01930, Attn: Brett Alger.

FOR FURTHER INFORMATION CONTACT: Brett Alger, Fishery Management Specialist, (978) 675-2153, fax (978) 281-9135, email Brett.Alger@NOAA.gov.

SUPPLEMENTARY INFORMATION: Amendment 16 (75 FR 18262; April 9, 2010) to the Northeast Multispecies Fishery Management Plan (FMP) expanded the sector management program, including requirements to ensure accurate monitoring of sector at-sea catch and dockside landings, and common pool dockside landings. Framework Adjustment 48 to the FMP (Framework 48, 78 FR 26118, May 3, 2013) revised the goals and objectives for sector monitoring programs.

Standards for Approving At-Sea Monitoring Service Providers

Regulations at 50 CFR 648.87(b)(4) describe the criteria for NMFS approval of at-sea monitoring service providers. NMFS is approving service providers for fishing year 2015 (beginning May 1, 2015) based on: (1) Completeness of applications, (2) determination of the applicant's ability to perform the duties and responsibilities of a sector monitoring service provider, and (3) performance as NMFS-funded providers in fishing year 2014. NE multispecies sectors are required to design and implement independent, third-party at-sea monitoring programs in fishing year 2015, and are responsible for the costs of these monitoring requirements, unless otherwise instructed by NMFS.

For fishing year 2014, NMFS approved A.I.S., Inc.; East West Technical Services, LLC; MRAG Americas, Inc.; Fathom Research, LLC; and ACD USA Ltd. as service providers based on the completeness of their application, addressing the regulatory requirements (§ 648.87(b)(4)(i)), determination of ability, and performance during previous fishing years. Once approved, providers must document having met performance requirements in order to maintain eligibility (§ 648.87(b)(4)(ii)). NMFS can disapprove any previously approved service provider during the fishing year if the service provider in question ceases to meet the performance standards. NMFS must notify service providers of disapproval in writing.

Approved Monitoring Service Providers

NMFS received complete applications from five companies interested in providing at-sea monitoring services in fishing year 2015; these were the same five approved in fishing year 2014. The Regional Administrator has approved the following service providers as eligible to provide at-sea monitoring services in fishing year 2015 because they have met the application requirements and applicable performance standards:

Table 1—Approved Fishing Year 2015 Providers
Provider name | Address | Phone | Fax | Website
ACD USA Ltd. | 4 Parker St., 2nd Floor, Gloucester, MA 01930 | 902-422-4745 | 902-422-9780 | www.atlanticcatchdata.ca.
A.I.S., Inc. | 89 N. Water St., P.O. Box 2093, New Bedford, MA 02741 | 508-990-9054 | 508-990-9055 | aisobservers.com.
East West Technical Services, LLC | 86 Mumford Rd., Narragansett, RI 02882 | 860-910-4957 | 860-223-6005 | www.ewts.com.
Fathom Research, LLC | 1213 Purchase St., New Bedford, MA 02740 | 508-990-0997 | 508-991-7372 | www.fathomresearchllc.com.
MRAG Americas, Inc. | 65 Eastern Ave., Unit B2C, Essex, MA 01929 | 978-768-3880 | 978-768-3878 | www.mragamericas.com.

Authority: 16 U.S.C. 1801 et seq.

Dated: February 12, 2015.
Alan D. Risenhoover,
Director, Office of Sustainable Fisheries, National Marine Fisheries Service.

[FR Doc. 2015-03273 Filed 2-17-15; 8:45 am]

BILLING CODE 3510-22-P